DEPARTMENT OF HOMELAND SECURITY

Federal Emergency Management Agency

44 CFR Part 65

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below of the modified BFEs for each community listed. These modified BFEs have been published in newspapers of local circulation and ninety (90) days have elapsed since that publication. The Mitigation Division Director of FEMA resolved any appeals resulting from this notification.

The modified BFEs are not listed for each community in this notice. However, this final rule includes the address of the Chief Executive Officer of the community where the modified BFEs determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and case No. | Date and name of newspaper where notice was published | Chief executive officer of community | Effective date of modification | Community No.
Alabama:
Lee (FEMA Docket No: B-7776) | City of Opelika (07-04-4788P) | February 14, 2008; February 21, 2008; Opelika-Auburn News | The Honorable Gary Fuller, Mayor, City of Opelika, P.O. Box 390, Opelika, AL 36803-0390 | January 31, 2008 | 010145
Madison (FEMA Docket No: B-7780) | Unincorporated areas of Madison County (07-04-6424P) | March 7, 2008; March 14, 2008; Madison County Record | The Honorable Mike Gillespie, Chairman, Madison County Commission, 100 Northside Square, Huntsville, AL 35801 | July 14, 2008 | 010151
Montgomery (FEMA Docket No: B-7788) | Unincorporated areas of Montgomery County (07-04-6294P) | March 7, 2008; March 14, 2008; Montgomery Advertiser | The Honorable Todd Strange, Chairman, Montgomery County Commission, P.O. Box 1667, Montgomery, AL 36102-1667 | July 14, 2008 | 010278
Arizona:
Maricopa (FEMA Docket No: B-7788) | Unincorporated areas of Maricopa County (07-09-1830P) | April 10, 2008; April 17, 2008; Arizona Business Gazette | The Honorable Andrew W. Kunasek, Chairman, Maricopa County Board of Supervisors, 301 West Jefferson Street, 10th Floor, Phoenix, AZ 85003 | April 1, 2008 | 040037
Maricopa (FEMA Docket No: B-7788) | Town of Queen Creek (07-09-1830P) | April 10, 2008; April 17, 2008; Arizona Business Gazette | The Honorable Art Sanders, Mayor, Town of Queen Creek, 22350 South Ellsworth Road, Queen Creek, AZ 85242 | April 1, 2008 | 040132
Pima (FEMA Docket No: B-7788) | City of Tucson (07-09-1087P) | April 10, 2008; April 17, 2008; Daily Territorial | The Honorable Bob Walkup, Mayor, City of Tucson, P.O. Box 27210, Tucson, AZ 85726 | May 4, 2008 | 040076
Pinal (FEMA Docket No: B-7780) | City of Casa Grande (08-09-0418P) | April 9, 2008; April 16, 2008; Copper Basin News | The Honorable Robert M. Jackson, Mayor, City of Casa Grande, 510 East Florence Boulevard, Casa Grande, AZ 85222 | April 25, 2008 | 040080
Yavapai (FEMA Docket No: B-7776) | Town of Prescott Valley (07-09-1708P) | February 21, 2008; February 28, 2008; Prescott Daily Courier | The Honorable Harvey Skoog, Mayor, Town of Prescott Valley, 7501 East Civic Circle, Prescott Valley, AZ 86314 | June 27, 2008 | 040121
Yavapai (FEMA Docket No: B-7776) | Yavapai County (07-09-1708P) | February 21, 2008; February 28, 2008; Prescott Daily Courier | The Honorable Chip Davis, Chairman, Yavapai County, Board of Supervisors, 1015 Fair Street, Prescott, AZ 86305 | June 27, 2008 | 040093
Arkansas: Pope (FEMA Docket No: B-7776) | City of Russellville (07-06-2298P) | February 7, 2008; February 14, 2008; The Courier | The Honorable Raye Turner, Mayor, City of Russellville, P.O. Box 428, Russellville, AR 72801 | March 3, 2008 | 050178
California:
Fresno (FEMA Docket No: B-7776) | City of Coalinga (07-09-1375P) | February 6, 2008; February 13, 2008; Coalinga Record | The Honorable Trish Hill, Mayor, City of Coalinga, 155 West Durian Avenue, Coalinga, CA 93210 | February 25, 2008 | 060045
Fresno (FEMA Docket No: B-7776). | Fresno County (07-09-1375P) | February 6, 2008; February 13, 2008; Coalinga Record | The Honorable Phil Larson, Fresno County Board of Supervisors, 2281 Tulare Street, 301 Hall of Records, Fresno, CA 93721 | February 25, 2008 065029
Orange (FEMA Docket No: B-7776) | City of Irvine, CA (08-09-0082P) | February 14, 2008; February 21, 2008; Irvine World News | The Honorable Beth Krom, Mayor, City of Irvine, P.O. Box 19575, Irvine, CA 92623 | May 22, 2008 | 060222
San Luis Obispo (FEMA Docket No: B-7776) | Unincorporated areas of San Luis Obispo County (07-09-1955P) | March 7, 2008; March 14, 2008; The Tribune | The Honorable James Patterson, Chairman, San Luis Obispo County, Board of Supervisors, 1055 Monterey Street, Room D-430, San Luis Obispo, CA 93408 | July 14, 2008 | 060304
Colorado:
Adams (FEMA Docket No: B-7776) | City of Thornton (08-08-0056P) | February 21, 2008; February 28, 2008; Northglenn-Thornton Sentinel | The Honorable Erik Hansen, Mayor, City of Thornton, 9500 Civic Center Drive, Thornton, CO 80229 | June 27, 2008 | 080007
El Paso (FEMA Docket No: B-7780) | City of Colorado Springs (07-08-0678P) | April 2, 2008; April 9, 2008; El Paso County News | The Honorable Lionel Rivera, Mayor, City of Colorado Springs, P.O. Box 1575, Colorado Springs, CO 80901 | March 25, 2008 | 080060
El Paso (FEMA Docket No: B-7780) | City of Colorado Springs (07-08-0679P) | March 5, 2008; March 12, 2008; El Paso County News | The Honorable Lionel Rivera, Mayor, City of Colorado Springs, P.O. Box 1575, Colorado Springs, CO 80901 | July 11, 2008 | 080060
Jefferson (FEMA Docket No: B-7780) | City of Lakewood (08-08-0234P) | March 20, 2008; March 27, 2008; The Golden Transcript | The Honorable Bob Murphy, Mayor, City of Lakewood 480, South Allison Parkway, Lakewood, CO 80226-3127 | March 11, 2008 | 085075
Connecticut: Fairfield (FEMA Docket No: B-7772) | Town of Greenwich (07-01-0700P) | January 18, 2008; January 25, 2008; Greenwich Time | The Honorable Peter Tesei, First Selectman, Town of Greenwich, 101 Field Point Road, Greenwich, CT 06830 | January 9, 2008 | 090008
Delaware: Sussex (FEMA Docket No: B-7776) | Unincorporated areas of Sussex County (08-03-0159P) | February 13, 2008; February 20, 2008; The Wave | The Honorable George B. Cole, Sussex County Council, P.O. Box 589, Georgetown, DE 19947 | May 21, 2008 | 100029
Florida:
Charlotte (FEMA Docket No: B-7776) | Unincorporated areas of Charlotte County (07-04-6248P) | January 31, 2008; February 7, 2008; Charlotte Sun | The Honorable Adam Cummings, Chairman, Charlotte County, Board of Commissioners, 18500 Murdock Circle, Port Charlotte, FL 33948 | January 17, 2008 | 120061
Lake (FEMA Docket No: B-7772) | Unincorporated areas of Lake County (07-04-6495P) | January 10, 2008; January 17, 2008; The Daily Commercial | The Honorable Welton G. Cadwell, Chairman, Lake County, Board of Commissioners, P.O. Box 7800, Tavares, FL 32778-7800 | April 17, 2008 | 120421
Monroe (FEMA Docket No: B-7772) | Village of Islamorada (07-04-6596P) | December 29, 2007 January 3, 2008; Key West Citizen | The Honorable Chris Sante, Mayor, Village of Islamorada, P.O. Box 568, Islamorada, FL 33036 | December 10, 2007 | 120424
Monroe (FEMA Docket No: B-7772) | Unincorporated areas of Monroe County (07-04-3519P | January 24, 2008; January 31, 2008; Key West Citizen | The Honorable Charles McCoy, Mayor, Monroe County, 1100 Simonton Street, Key West, FL 33040 | May 1, 2008 | 125129
Polk (FEMA Docket No: B-7780) | City of Lakeland (08-04-0475P) | February 27, 2008; March 5, 2008; Polk County Democrat | The Honorable Ralph L. Fletcher, Mayor, City of Lakeland, 228 South Massachusetts Avenue, Lakeland, FL 33801 | February 20, 2008 | 120267
Polk (FEMA Docket No: B-7780) | Unincorporated areas of Polk County (08-04-0620P) | February 13, 2008; February 20, 2008; Polk County Democrat | The Honorable Bob English, Chairman, Polk County, Board of Commissioners, P.O. Box 9005, Drawer BC01, Bartow, FL 33831 | May 21, 2008 | 120261
Sarasota (FEMA Docket No: B-7780) | City of Sarasota (08-04-0422P) | March 6, 2008; March 13, 2008; Sarasota Herald-Tribune | The Honorable Lou Ann Palmer, Mayor, City of Sarasota, 1565 First Street, Suite 101, Sarasota, FL 34236 | February 28, 2008 | 125150
Sarasota (FEMA Docket No: B-7780) | City of Sarasota (08-04-0621P) | April 4, 2008; April 11, 2008; Sarasota Herald-Tribune | The Honorable Lou Ann Palmer, Mayor, City of Sarasota, 1565 First Street, Room 101, Sarasota, FL 34236 | March 28, 2008 | 125150
Georgia:
Barrow (FEMA Docket No: B-7780) | Unincorporated areas of Barrow County (08-04-0478P) | March 5, 2008; March 12, 2008; Barrow County News | The Honorable Douglas H. Garrison, Chairman, Barrow County, Board of Commissioners, 233 East Broad Street, Winder, GA 30680 | July 11, 2008 | 130497
Barrow (FEMA Docket No: B-7776) | Unincorporated areas of Barrow County (07-04-6544P) | February 13, 2008; February 20, 2008; The Barrow County News | The Honorable Douglas H. Garrison, Chairman, Barrow County, Board of Commissioners, 233 East Broad Street, Winder, GA 30680 | May 21, 2008 | 130497
Barrow (FEMA Docket No: B-7776) | City of Winder (07-04-6544P) | February 13, 2008; February 20, 2008; The Barrow County News | The Honorable George “Chip” Thompson III, Mayor, City of Winder, P.O. Box 566, Winder, GA 30680 | May 21, 2008 | 130234
Chatham (FEMA Docket No: B-7776) | Unincorporated areas of Chatham County (07-04-6193P) | January 15, 2008; January 22, 2008; Effingham Herald | The Honorable Pete Liakakis, Chairman, Chatham County, Board of Commissioners, 124 Bull Street, Suite 220, Savannah, GA 31401 | April 22, 2008 | 130030
Cherokee (FEMA Docket No: B-7772). | City of Canton (07-04-2655P) | January 11, 2008; January 18, 2008; Cherokee Tribune | The Honorable Cecil G. Pruett, Mayor, City of Canton, 151 Elizabeth Street, Canton, GA 30114 | December 26, 2007 | 130039
Cherokee (FEMA Docket No: B-7772) | Unincorporated areas of Cherokee County (07-04-2655P) | January 11, 2008; January 18, 2008; Cherokee Tribune | The Honorable Buzz Ahrens, Chairman, Cherokee County, Board of Commissioners, 90 North Street, Suite 310, Canton, GA 30114 | December 26, 2007 | 130424
Columbia (FEMA Docket No: B-7772) | Unincorporated areas of Columbia County (07-04-5157P) | December 26, 2007 January 2, 2008; Columbia County News-Times | The Honorable Ron C. Cross, Chairman, Columbia County, Board of Commissioners, P.O. Box 498, Evans, GA 30809 | December 12, 2007 | 130059
Columbia (FEMA Docket No: B-7772) | City of Grovetown (07-04-5157P) | December 26, 2007 January 2, 2008; Columbia County News-Times | The Honorable Dennis O. Trudeau, Mayor, City of Grovetown, P.O. Box 120, Grovetown, GA 30813 | December 12, 2007 130265
Effingham (FEMA Docket No: B-7776) | Unincorporated areas of Effingham County (07-04-6193P) | January 15, 2008; January 22, 2008; Effingham Herald | The Honorable Verna H. Phillips, Chairman, Effingham County, Board of Commissioners, 601 North Laurel Street, Springfield, GA 31329 | April 22, 2008 | 130076
Hawaii:
Hawaii (FEMA Docket No: B-7780) | Unincorporated areas of Hawaii County (08-09-0102P) | April 3, 2008; April 10, 2008; Hawaii Tribune-Herald | The Honorable Harry Kim, Mayor, Hawaii County, 25 Aupuni Street, Room 215, Hilo, HI 96720 | March 25, 2008 | 155166
Maui (FEMA Docket No: B-7780) | Unincorporated areas of Maui County (07-09-0822P) | April 3, 2008; April 10, 2008; Maui News | The Honorable Charmaine Tavares, Mayor, County of Maui, 200 South High Street, Ninth Floor, Wailuku, HI 96793 | March 25, 2008 | 150003
Idaho:
Ada (FEMA Docket No: B-7780) | Unincorporated areas of Ada County (07-10-0641P) | April 4, 2008; April 11, 2008; Idaho Statesman | The Honorable Fred Tilman, Chairman, Ada County, Board of Commissioners, 200 West Front Street Boise, ID 83702 | August 11, 2008 | 160001
Ada (FEMA Docket No: B-7780) | City of Meridian (07-10-0641P) | April 4, 2008; April 11, 2008; Idaho Statesman | The Honorable Tammy de Weerd, Mayor, City of Meridian, 33 East Idaho Avenue, Meridian, ID 83642-2300 | August 11, 2008 | 160180
Bonneville (FEMA Docket No: B-7788) | Unincorporated areas of Bonneville County (08-10-0105P) | April 4, 2008; April 11, 2008; Post Register | The Honorable Lee Staker, Chairman, Bonneville County, Board of Commissioners, 605 North Capital Avenue, Idaho Falls, ID 83402 | March 27, 2008 | 160027
Illinois:
DuPage (FEMA Docket No: B-7780) | City of Aurora (08-05-0818P) | April 3, 2008; April 10, 2008; Beacon News | The Honorable Thomas J. Weisner, Mayor, City of Aurora, 44 East Downer Place, Aurora, IL 60507 | March 25, 2008 | 170320
Grundy (FEMA Docket No: B-7780) | Unincorporated areas of Grundy County (08-05-0597P) | March 21, 2008; March 28, 2008; Herald News | The Honorable Francis E. Halpin, Chairman, Grundy County Board, 1320 Union Street, Morris, IL 60450 | April 14, 2008 | 170256
Grundy (FEMA Docket No: B-7780) | City of Morris (08-05-0597P) | March 21, 2008; March 28, 2008; Herald News | The Honorable Richard Kopczick, Mayor, City of Morris, 320 Wauponsee Street, Morris, IL 60450 | April 14, 2008 | 170263
Kane (FEMA Docket No: B-7772) | Unincorporated areas of Kane County (07-05-0178P) | January 24, 2008; January 31, 2008; Kane County Chronicle | The Honorable Karen McConnaughay, Chairman, Kane County Board, 719 South Batavia Avenue, Geneva, IL 60134 | May 1, 2008 | 170896
Kane (FEMA Docket No: B-7772) | Village of Sugar Grove (07-05-0178P) | January 24, 2008; January 31, 2008; Kane County Chronicle | The Honorable P. Sean Michels, President, Village of Sugar Grove, P.O. Box 49, Sugar Grove, IL 60554 | May 1, 2008 | 170333
Lake (FEMA Docket No: B-7772) | City of Waukegan (06-05-BR72P) | January 10, 2008; January 17, 2008; Lake County News-Sun | The Honorable Richard H. Hyde, Mayor, City of Waukegan, 100 North Martin Luther King, Jr. Avenue,, Waukegan, IL 60085 | April 17, 2008 | 170397
McHenry (FEMA Docket No: B-7772) | Village of Fox Rover Grove (07-05-5055P) | January 10, 2008; January 17, 2008; Northwest Herald | The Honorable Katherine A. Laube President, Village of Fox River Grove, 305 Illinois Street, Fox River Grove, IL 60021 | April 17, 2008 | 170477
St. Clair (FEMA Docket No: B-7776) | Unincorporated areas of St. Clair County (07-05-5847P) | February 7, 2008; February 14, 2008; Belleville News-Democrat | The Honorable Mark Kern, Chairman, St. Clair County Board of Commissioners, 10 Public Square, Belleville, IL 62220 | May 15, 2008 | 170616
Will (FEMA Docket No: B-7776) | City of Joliet (08-05-0389P) | January 31, 2008; February 7, 2008; Herald News | The Honorable Arthur Schultz, Mayor, City of Joliet, 150 West Jefferson Street, Joliet, IL 60431 | January 23, 2008 | 170702
Will (FEMA Docket No: B-7780) | City of Joliet (07-05-5618P) | March 20, 2008; March 27, 2008; Herald News | The Honorable Arthur Schultz, Mayor, City of Joliet, 150 West Jefferson Street, Joliet, IL 60431 | March 10, 2008 | 170702
Will (FEMA Docket No: B-7776) | City of Lockport (08-05-0065P) | February 14, 2008; February 21, 2008; Herald News | The Honorable Tim Murphy, Mayor, City of Lockport, 222 East Ninth Street, Lockport, IL 60441 | January 30, 2008 | 170703
Will (FEMA Docket No: B-7780) | Village of Mokena (08-05-0765P) | March 20, 2008; March 27, 2008; Herald News | The Honorable Joseph W. Werner, Village President, Village of Mokena, 11004 Carpenter Street, Mokena, IL 60448 | April 14, 2008 | 170705
Will (FEMA Docket No: B-7780) | City of Naperville (08-05-0551P) | March 6, 2008; March 13, 2008; Naperville Sun | The Honorable A. George Pradel, Mayor, City of Naperville, 400 South Eagle Street, Naperville, IL 60540 | February 29, 2008 | 170213
Will (FEMA Docket No: B-7780) | Village of Shorewood (08-05-1364P) | March 28, 2008; April 4, 2008; Herald News | The Honorable Richard E. Chapman, President, Village of Shorewood, 903 West Jefferson Street, Shorewood, IL 60404 | March 24, 2008 | 170712
Will (FEMA Docket No: B-7780) | Unincorporated areas of Will County (08-05-0551P) | March 6, 2008; March 13, 2008; Naperville Sun | The Honorable Lawrence M. Walsh, Will County Executive, 302 North Chicago Street, Joliet, IL 60432 | February 29, 2008 | 170695
Kansas:
Douglas (FEMA Docket No: B-7776) | City of Lawrence (07-07-0691P) | February 7, 2008; February 14, 2008; Lawrence Daily Journal-World | The Honorable Sue Hack, Mayor, City of Lawrence, P.O. Box 708, Lawrence, KS 66044 | January 28, 2008 | 200090
Sedgwick (FEMA Docket No: B-7776) | City of Wichita (08-07-0138P) | March 7, 2008; March 14, 2008; The Wichita Eagle | The Honorable Carl Brewer, Mayor, City of Wichita, 455 North Main Street, Wichita, KS 67202 | February 26, 2008 | 200328
Sedgwick (FEMA Docket No: B-7780) | City of Wichita (07-07-1695P) | April 4, 2008; April 11, 2008; Wichita Eagle | The Honorable Carl Brewer, Mayor, City of Wichita, 455 North Main Street, Wichita, KS 67202 | March 27, 2008 | 200328
Maryland:
Charles (FEMA Docket No: B-7776) | Unincorporated areas of Charles County (07-03-1449P) | March 5, 2008; March 12, 2008; Maryland Independent | The Honorable Wayne Cooper, President, Charles County Commissioners, P.O. Box 2150, La Plata, MD 20646 | July 11, 2008 | 240089
Montgomery (FEMA Docket No: B-7776) | Unincorporated areas of Montgomery County (08-03-0615X) | February 27, 2008; March 5, 2008; The Gazette | Mr. Isiah Leggett , Montgomery County Executive, 101 Monroe Street, Second Floor, Rockville, MD 20850 | June 5, 2008 | 240049
Wicomico (FEMA Docket No: B-7776) | City of Salisbury (07-03-1102P) | January 31, 2008; February 7, 2008; Daily Times | The Honorable Barrie Tilghman, Mayor, City of Salisbury, 1009 Monitor Court, Salisbury, MD 21801 | January 18, 2008 | 240080
Wicomico (FEMA Docket No: B-7776) | Unincorporated areas of Wicomico County (07-03-1102P) | January 31, 2008; February 7, 2008; Daily Times | Mr. Rick Pollitt, Wicomico County Executive, P.O. Box 870, Salisbury, MD 21803 | January 18, 2008 | 240078
Massachusetts:
Norfolk (FEMA Docket No: B-7776) | Town of Wellesley (08-01-0508X) | March 6, 2008; March 13, 2008; Wellesley Townsman | The Honorable Owen H. Dugan, Chairman, Board of Selectmen, 525 Washington Street, Wellesley, MA 02181 | July 11, 2008 | 250255
Plymouth (FEMA Docket No: B-7776) | Town of Rockland (08-01-0140P) | March 15, 2008; March 22, 2008; Rockland Standard | The Honorable Mary Parsons, Chair, Board of Selectmen, Town of Rockland, 242 Union Street, Rockland, MA 02370 | June 16, 2008 | 250281
Worcester (FEMA Docket No: B-7772) | Town of Southborough (07-01-0993P) | January 18, 2008; January 25, 2008; Northborough-Southborough Villager | The Honorable Bonnie J. Phaneuf, Chair, Board of Selectmen, Southborough Town House, 17 Common Street, Southborough, MA 01772 | January 31, 2008 | 250333
Michigan: Monroe (FEMA Docket No: B-7776) | Village of Dundee (07-05-0218P) | February 14, 2008; February 21, 2008; The Monroe Evening News | The Honorable Ted Norris, Village President, Village of Dundee, Dundee Village Office, 350 West Monroe Street, Dundee, MI 48131 | May 22, 2008 | 260313
Minnesota: Dakota (FEMA Docket No: B-7780) | City of Lakeville (08-05-0668P) | April 3, 2008; April 10, 2008; Lakeville Sun Current | The Honorable Holly Dahl, Mayor, City of Lakeville, 20195 Holyoke Avenue, Lakeville, MN 55044 | March 26, 2008 | 270107
Missouri:
Lincoln (FEMA Docket No: B-7776) | Unincorporated areas of Lincoln County (07-07-1516P) | March 26, 2008; April 2, 2008; Troy Free Press | The Honorable Sean O'Brien, Presiding Commissioner, Lincoln County Commission, 201 Main Street, Troy, MO 63379 | July 31, 2008 | 290869
Taney (FEMA Docket No: B-7780) | City of Branson (07-07-1909P) | March 7, 2008; March 14, 2008; Branson Daily News | The Honorable Raeanne Presley, Mayor, City of Branson, 110 West Maddux Street, Branson, MO 65616 | July 14, 2008 | 290436
Taney (FEMA Docket No: B-7780) | City of Hollister (07-07-1909P) | March 7, 2008; March 14, 2008; Branson Daily News | The Honorable David G. Tate, Mayor, City of Hollister, 312 Esplanade Street, Hollister, MO 65373 | July 14, 2008 | 290437
Taney (FEMA Docket No: B-7780) | Unincorporated areas of Taney County (07-07-1909P) | March 7, 2008; March 14, 2008; Branson Daily News | The Honorable Chuck Pennel, Presiding Commissioner, Taney County Commission, P.O. Box 383, Forsyth, MO 65653 | July 14, 2008 | 290435
Nebraska: Lincoln (FEMA Docket No: B-7776) | City of North Platte (07-07-0322P) | February 28, 2008; March 6, 2008; North Platte Telegraph | The Honorable G. Keith Richardson, Mayor, City of North Platte, 211 West Third Street, North Platte, NE 69101 | July 7, 2008 | 310143
New Jersey:
Mercer (FEMA Docket No: B-7776) | Township of Hamilton (07-02-0844P) | February 7, 2008; February 14, 2008; Trenton Times | The Honorable John F. Bencivengo, Mayor, Township of Hamilton, 2090 Greenwood Avenue, Hamilton, NJ 08650-0150 | May 15, 2008 | 340246
Monmouth (FEMA Docket No: B-7766) | Township of Neptune (07-02-0634P) | December 13, 2007 December 20, 2007 Asbury Park Press | The Honorable James Manning, Jr., Mayor, Township of Neptune, P.O. Box 1125, Neptune, NJ 07754 | November 28, 2007 | 340317
Union (FEMA Docket No: B-7776) | Township of Union (07-02-0942P) | February 21, 2008; February 28, 2008; Union Leader | The Honorable Clifton People, Jr., Mayor, Township of Union, 1976 Morris Avenue, Union, NJ 07083 | May 22, 2008 | 340477
North Carolina:
Brunswick (FEMA Docket No: B-7776) | Unincorporated Areas of Brunswick County (07-04-6003P) | March 6, 2008; March 13, 2008; The Brunswick Beacon | Mr. Marty Lawing, Manager, Brunswick County, P.O. Box 249, Bolivia, North Carolina 28422 | January 30, 2008 | 370295
Forsyth (FEMA Docket No: B-7785) | City of Winston-Salem (07-04-4554P) | February 27, 2008; March 5, 2008; Winston-Salem Journal | The Honorable Allen Joines, Mayor, City of Winston-Salem, 101 North Main Street, Winston-Salem, North Carolina 27101 | July 3, 2008 | 375360
Martin (FEMA Docket No: B-7776) | Unincorporated Areas of Martin County (08-04-1028P) | March 11, 2008; March 18, 2008; The Enterprise | Mr. W. Russell Overman, Manager, Martin County, P.O. Box 668, Williamston, North Carolina 27892 | February 29, 2008 | 370155
Wake (FEMA Docket No: B-7776) | Unincorporated areas of Wake County (07-04-6027P) | January 31, 2008; February 7, 2008; The Wake Weekly | Mr. David Cooke, Manager, Wake County 337, South Salisbury Street, Suite 1100, Raleigh, NC 27602 | May 8, 2008 | 370368
Wake (FEMA Docket No: B-7776) | Town of Wake Forest (07-04-6027P) | January 31, 2008; February 7, 2008; The Wake Weekly | The Honorable Vivian A. Jones, Mayor, Town of Wake Forest, 401 Elm Avenue, Wake Forest, NC 27587 | May 8, 2008 | 370244
Ohio: Union (FEMA Docket No: B-7776) | Unincorporated areas of Union County (07-05-6234P) | January 31, 2008; February 7, 2008; Marysville Journal-Tribune | The Honorable Charles Hall, Union County Commissioner, 233 West Sixth Street, Marysville, OH 43040 | January 11, 2008 | 390808
Oklahoma: Tulsa (FEMA Docket No: B-7776) | City of Tulsa (08-06-0093P) | February 7, 2008; February 14, 2008; Tulsa World | The Honorable Kathy Taylor, Mayor, City of Tulsa, 200 Civic Center, 11th Floor, Tulsa, OK 74103 | May 15, 2008 | 405381
Pennsylvania:
Lehigh (FEMA Docket No: B-7772) | Township of Salisbury (07-03-0947P) | January 3, 2008; January 10, 2008; Express-Times | The Honorable Larry Unger President, Township of Salisbury, 2900 South Pike Avenue, Allentown, PA 18103 | April 10, 2008 | 420591
Northampton (FEMA Docket No: B-7772) | Township of Lower Mount Bethel (07-03-1293P) | January 3, 2008; January 10, 2008; Express-Times | The Honorable Charles Palmeri, Chairman, Lower Mount Bethel, Board of Supervisors, P.O. Box 257, Martins Creek, PA 18063 | April 10, 2008 | 420724
Rhode Island: Newport (FEMA Docket No: B-7776) | Town of Tiverton (07-01-1087P) | February 21, 2008; February 28, 2008; Newport Daily News | The Honorable Louise Durfee, President, Town Council, 343 Highland Road, Tiverton, RI 02878 | February 8, 2008 | 440012
South Carolina:
Charleston (FEMA Docket No: B-7772) | City of Folly Beach (08-04-0583P) | January 3, 2008; January 10, 2008; The Post and Courier | The Honorable Carl B. Beckmann, Jr., Mayor, City of Folly Beach, P.O. Box 48, Folly Beach, SC 29439 | December 18, 2007 | 455415
Greenville (FEMA Docket No: B-7780) | Unincorporated areas of Greenville County (08-04-0619P) | March 7, 2008; March 14, 2008; The Greenville News | The Honorable Butch Kirven, Chairman, Greenville County, Council 213 League Road, Simpsonville, SC 29681 | July 11, 2008 | 450089
Greenville (FEMA Docket No: B-7772) | Greenville County (07-04-5799P) | January 10, 2008; January 17, 2008; The Greenville News | The Honorable Herman G. Kirven, Jr., Chairman, Greenville County Council, 301 University Ridge, Suite 2400, Greenville, SC 29601 | April 17, 2008 | 450089
Greenville (FEMA Docket No: B-7776) | Unincorporated areas of Greenville County (07-04-6423P) | January 31, 2008; February 7, 2008; Greenville News | The Honorable Herman G. Kirven, Jr., Chairman, Greenville County Council, 301 University Ridge, Suite 2400, Greenville, SC 29601 | May 8, 2008 | 450089
Jasper (FEMA Docket No: B-7776) | Unincorporated areas of Jasper County (07-04-6192P) | February 13, 2008; February 20, 2008; Jasper County Sun | The Honorable George Hood, Chairman, County Council, Jasper County, P.O. Box 1149, Ridgeland, SC 29936 | May 21, 2008 | 450112
Richland (FEMA Docket No: B-7780) | Unincorporated areas of Richland County (08-04-1671P) | March 7, 2008; March 14, 2008; Columbia Star | The Honorable Joseph McEachern, Chairman, Richland County Council, 2020 Hampton Street, Second Floor, Columbia, SC 29202 | July 14, 2008 | 450170
Richland (FEMA Docket No: B-7780) | Unincorporated areas of Richland County (07-04-3534P) | March 7, 2008; March 14, 2008; Columbia Star | The Honorable Joseph McEachern, Chairman, Richland County Council, 2020 Hampton Street, Suite 4069, Columbia, SC 29202 | July 14, 2008 | 450170
Sumter (FEMA Docket No: B-7772) | Unincorporated areas of Sumter County (07-04-6293P) | January 10, 2008; January 17, 2008; Sumter Item | The Honorable Vivian Fleming-McGhaney, Chair, Sumter County Council, 13 East Canal Street, Sumter, SC 29150 | April 17, 2008 | 450182
Tennessee:
Davidson (FEMA Docket No: B-7780) | Metropolitan Government of Nashville & Davidson County (08-04-0137P) | March 6, 2008; March 13, 2008; The Tennessean | The Honorable Bill Purcell, Mayor, Metropolitan Government of Nashville and Davidson County, 107 Metropolitan Courthouse, Nashville, TN 37201 | July 11, 2008 | 470040
Hamilton (FEMA Docket No: B-7772) | City of Chattanooga (07-04-4405P) | January 10, 2008; January 17, 2008; Chattanooga Times Free Press | The Honorable Ron Littlefield, Mayor, City of Chattanooga, 101 East 11th Street, Suite 100, Chattanooga, TN 37402 | April 17, 2008 | 470072
Madison (FEMA Docket No: B-7780) | City of Jackson (07-04-4683P) | March 7, 2008; March 14, 2008; Jackson Sun | The Honorable Jerry Gist, Mayor, City of Jackson, 121 East Main Street, Suite 301, Jackson, TN 38301 | March 31, 2008 | 470113
Wilson (FEMA Docket No: B-7780) | City of Lebanon (08-04-0116P) | March 7, 2008; March 14, 2008; Wilson Post | The Honorable Donald W. Fox, Mayor, City of Lebanon, 200 North Castle Heights Avenue, Suite 100, Lebanon, TN 37087 | July 21, 2008 | 470208
Wilson (FEMA Docket No: B-7780) | Unincorporated areas of Wilson County (08-04-0116P) | March 7, 2008; March 14, 2008; Wilson Post | The Honorable Robert Dedman, Mayor, Wilson County, 228 East Main Street, Lebanon, TN 37087 | July 21, 2008 | 470207
Texas:
Bexar (FEMA Docket No: B-7776) | City of Live Oak (07-06-1905P) | March 7, 2008; March 14, 2008; Daily Commercial Recorder | The Honorable Henry O. Edwards, Jr., Mayor, City of Live Oak, 8001 Shin Oak Drive, Live Oak, TX 78233 | July 14, 2008 | 480043
Bexar (FEMA Docket No: B-7776) | City of San Antonio (08-06-0160P) | February 11, 2008; February 18, 2008; San Antonio Express-News | The Honorable Phil Hardberger, Mayor, City of San Antonio, P.O. Box 839966, San Antonio, TX 78283 | January 31, 2008 | 480045
Brazos (FEMA Docket No: B-7776) | City of College Station (07-06-0545P) | March 6, 2008; March 13, 2008; Bryan College Station Eagle | The Honorable Ben White, Mayor, City of College Station, 1101 Texas Avenue, College Station, TX 77840 | July 11, 2008 | 480083
Brazos (FEMA Docket No: B-7776) | City of College Station (07-06-1353P) | February 14, 2008; February 21, 2008; Bryan College Station Eagle | The Honorable Ben White, Mayor, City of College Station, 1101 Texas Avenue, College Station, TX 77840 | May 22, 2008 | 480083
Brazos (FEMA Docket No: B-7776) | City of College Station (07-06-1928P) | February 14, 2008; February 21, 2008; Bryan College Station Eagle | The Honorable Ben White, Mayor, City of College Station, 1101 Texas Avenue, College Station, TX 77840 | May 22, 2008 | 480083
Brazos (FEMA Docket No: B-7785) | City of College Station (07-06-2365P) | April 7, 2008; April 10, 2008; Bryan College Station Eagle | The Honorable Ben White, Mayor, City of College Station, 1101 Texas Avenue, College Station, TX 77840 | April 25, 2008 | 480083
Collin (FEMA Docket No: B-7776) | City of Allen (07-06-2335P) | February 7, 2008; February 14, 2008; Allen American | The Honorable Steve Terrell, Mayor, City of Allen, 305 Century Parkway, Allen, TX 75013 | March 3, 2008 | 480131
Collin (FEMA Docket No: B-7776) | City of Frisco (07-06-1223P) | February 22, 2008; February 29, 2008; Frisco Enterprise | The Honorable Michael Simpson, Mayor, City of Frisco, 6101 Frisco Square Boulevard, Frisco, TX 75034 | June 30, 2008 | 480134
Dallas (FEMA Docket No: B-7780) | City of Coppell (07-06-2203P) | April 2, 2008; April 9, 2008; Coppell Gazette | The Honorable Douglas N. Stover, Mayor, City of Coppell, P.O. Box 9478, Coppell, TX 75019 | April 24, 2008 | 480170
Dallas (FEMA Docket No: B-7772) | City of Dallas (06-06-BF24P) | January 31, 2008; February 7, 2008; The Mesquite News | The Honorable Tom Leppert, Mayor, City of Dallas, 1500 Marilla Street, Room 5EN, Dallas, TX 75201 | May 8, 2008 | 480171
Dallas (FEMA Docket No: B-7776) | City of Grand Prairie (07-06-1525P) | February 8, 2008; February 15, 2008; Rowlett Lakeshore Times | The Honorable Charles England, Mayor, City of Grand Prairie, P.O. Box 534045, Grand Prairie, TX 75053 | May 16, 2008 | 485472
Dallas (FEMA Docket No: B-7772) | Town of Sunnyvale (06-06-BF24P) | January 31, 2008; February 7, 2008; The Mesquite News | The Honorable Jim Phaup, Mayor, Town of Sunnyvale, 127 North Collins Road, Sunnyvale, TX 75182 | May 8, 2008 | 480188
Denton (FEMA Docket No: B-7776) | Town of Northlake (07-06-2016P) | March 6, 2008; March 13, 2008; Denton Record-Chronicle | The Honorable Peter Dewing, Mayor, Town of Northlake, P.O. Box 729, Northlake, TX 76247 | February 22, 2008 | 480782
El Paso (FEMA Docket No: B-7780) | City of El Paso (07-06-2485P) | April 3, 2008; April 10, 2008; El Paso Times | The Honorable John Cook, Mayor, City of El Paso, Two Civic Center Plaza, Tenth Floor, El Paso, TX 79901 | March 27, 2008 | 480214
Fort Bend (FEMA Docket No: B-7772) | City of Katy (07-06-2143P) | January 3, 2008; January 10, 2008; Fort Bend Herald | The Honorable Don Elder, Jr., Mayor, City of Katy, P.O. Box 617, Katy, TX 77492 | December 14, 2007 | 480301
Kaufman (FEMA Docket No: B-7772) | Unincorporated areas of Kaufman County (06-06-BF24P) | January 31, 2008; February 7, 2008; The Mesquite News | The Honorable Wayne Gent, Kaufman County Judge, 100 West Mulberry Street, Kaufman, TX 75142 | May 8, 2008 | 480411
Tarrant (FEMA Docket No: B-7780) | City of Bedford (08-06-1343P) | March 7, 2008; March 14, 2008; Colleyville Courier | The Honorable Jim Story, Mayor, City of Bedford, 2000 Forest Ridge Drive, Bedford, TX 76021 | June 13, 2008 | 480585
Tarrant (FEMA Docket No: B-7780) | City of Euless (08-06-1343P) | March 7, 2008; March 14, 2008; Colleyville Courier | The Honorable Mary Lib Saleh, Mayor, City of Euless, 201 North Ector Drive, Euless, TX 76039 | June 13, 2008 | 480593
Tarrant (FEMA Docket No: B-7776) | City of Grapevine (07-06-1674P) | March 7, 2008; March 14, 2008; Grapevine Courier | The Honorable William D. Tate, Mayor, City of Grapevine, P.O. Box 95104, Grapevine, TX 76099 | July 14, 2008 | 480598
Tarrant (FEMA Docket No: B-7776) | City of North Richland Hills (07-06-1765P) | February 28, 2008; March 6, 2008; Dallas Morning News | The Honorable Oscar Trevino, Jr., P.E., Mayor, City of North Richland Hills, 7301 North East Loop, 820 North Richland Hills, TX 76180 | February 14, 2008 | 480607
Virginia: Independent City (FEMA Docket No: B-7776) | City of Winchester (07-03-1236P) | March 27, 2008; April 3, 2008; Winchester Star | The Honorable Elizabeth Minor, Mayor, City of Winchester, 422 National Avenue, Winchester, VA 22601 | March 17, 2008 | 510173
Washington: Whatcom (FEMA Docket No: B-7772) | Unincorporated areas of Whatcom County (07-10-0356P) | January 3, 2008; January 10, 2008; The Bellingham Herald | The Honorable Pete Kremen, Whatcom County Executive, County Courthouse, 311 Grand Avenue, Suite 108, Bellingham, WA 98225 | December 17, 2007 | 530198

(Catalog of Federal Domestic Assistance No. 97.022, “Flood Insurance.”)

Dated: August 4, 2008.
David I. Maurstad,
Federal Insurance Administrator of the National Flood Insurance Program, Department of Homeland Security, Federal Emergency Management Agency.

[FR Doc. E8-19007 Filed 8-15-08; 8:45 am]

BILLING CODE 9110-12-P